SECURITIES AND EXCHANGE COMMISSION

Proposed Collection; Comment Request

Upon Written Request; Copies Available From: Securities and Exchange Commission, Office of Filings and Information Services, Washington, DC 20549.

New Information Collection: Study of Marketing and Delivery of Financial Products to Individual Investors, OMB Control No. 3235-xxxx, SEC File No. 270-561.

Notice is hereby given that pursuant to the Paperwork Reduction Act of 1995 (44 U.S.C. 3501 et seq.) the Securities and Exchange Commission (“Commission”) is soliciting comments on the collection of information summarized below. The Commission plans to submit this collection of information to the Office of Management and Budget for approval.

The Commission has engaged an outside contractor to undertake a study that will involve collecting, categorizing, and analyzing empirical data regarding the marketing, sale and delivery of financial products, accounts, programs and services offered to individual investors by broker-dealers and investment advisers. The contractor's findings will be summarized in a report for the Commission. Participation in the study will be voluntary. Participants in the study are expected to include broker-dealers, investment advisers, individual investors, investor advocates and industry groups. We estimate that there would be approximately 330 participants in the study at an estimated 1.5 hours for a total annual burden of approximately 500 hours.

Written comments are invited on: (a) Whether this proposed collection of information is necessary for the performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comment to R. Corey Booth, Director/Chief Information Officer, Securities and Exchange Commission, C/O Shirley Martinson 6432 General Green Way, Alexandria, Va 22312; or send an e-mail to: PRA_Mailbox@sec.gov.

Dated: October 30, 2006.
Jill M. Peterson,
Assistant Secretary.

FR Doc. E6-18696 Filed 11-6-06; 8:45 am]

BILLING CODE 8011-01-P